DEPARTMENT OF HEALTH AND HUMAN SERVICES

Centers for Disease Control and Prevention

Solicitation of Nominations for Appointment to the CDC/HRSA Advisory Committee on HIV, Viral Hepatitis and STD Prevention and Treatment (CHACHSPT)

ACTION: Notice.

SUMMARY: The Centers for Disease Control and Prevention (CDC) is seeking nominations for membership on the CDC/HRSA Advisory Committee on HIV, Viral Hepatitis and STD Prevention and Treatment (CHACHSPT). The CHACHSPT consists of 18 experts in fields associated with public health; epidemiology; laboratory practice; immunology; infectious diseases; drug abuse; behavioral science; health education; healthcare delivery; state health programs; clinical care; preventive health; medical education; health services and clinical research; and healthcare financing, who are selected by the Secretary of the U.S. Department of Health and Human Services (HHS).

DATES: Nominations for membership on the CHACHSPT must be received no later than October 1, 2022. Packages received after this time will not be considered for the current membership cycle.

ADDRESSES: All nominations should be electronically mailed to nchhstppolicy@cdc.gov with the subject line of “CHAC 2023 Nomination.”

FOR FURTHER INFORMATION CONTACT: Marah Condit, MS, Committee Management Lead, National Center for HIV, Viral Hepatitis, STD, and TB Prevention, CDC, 1600 Clifton Road NE, Mailstop US8-6, Atlanta, Georgia 30329-4027; Telephone: (404) 639-3423; Email: MCondit@cdc.gov.

SUPPLEMENTARY INFORMATION: The Secretary of HHS, and by delegation, the CDC Director and the Administrator, Health Resources and Services Administration (HRSA), are authorized by the Public Health Service Act to: (1) Conduct, encourage, cooperate with, and assist other appropriate public health authorities, scientific institutions, and scientists in the conduct of research, investigations, experiments, demonstrations, and studies related to the cases, diagnosis, treatment, control, and prevention of physical and mental diseases, and other impairments; (2) assist states and their political subdivisions in preventing, suppressing, and treating communicable diseases and other preventable conditions and in promoting health and well-being; (3) assist public and nonprofit private entities in preventing, controlling, and treating sexually transmitted diseases (STDs), including the human immunodeficiency virus (HIV); (4) improve health and achieve health equity through access to quality services and a skilled health workforce and innovative programs; (5) support healthcare services to persons living with or at risk for HIV, viral hepatitis, and other STDs; and (6) advance the education of health professionals and the public from HIV, viral hepatitis, and other STDs.

CHACHSPT meets at least two times each calendar year, or at the discretion of the Designated Federal Officers in consultation with the CHACHSPT co-chairs.

The U.S. Department of Health and Human Services policy stipulates that committee membership be balanced in terms of points of view represented and the committee's function. Current participation on federal workgroups or prior experience serving on a federal advisory committee does not disqualify a candidate; however, HHS policy is to avoid excessive individual service on advisory committees and multiple committee memberships. The CHACHSPT charter stipulates that the Committee shall include representation of persons with HIV and other affected populations; state and local health and education agencies; HIV/viral hepatitis/STD community-based organizations; and the ethics or faith-based community. At least four members shall be persons with HIV.

Committee members are Special Government Employees (SGEs), requiring the filing of financial disclosure reports at the beginning of and annually during their terms. Individuals who are selected for appointment will be required to provide detailed information regarding their financial interests and, for example, any work they do for the federal government through research grants or contracts. Disclosure of this information is required in order for CDC ethics officials to determine whether there is a conflict between the SGE's public duties as members of CHACHSPT and their private interests, including an appearance of a loss of impartiality as defined by federal laws and regulations, and to identify any required remedial action needed to address the potential conflict. CDC and HRSA review potential candidates for CHACHSPT membership when a vacancy arises and provide a slate of nominees for consideration to the Secretary of HHS for final selection. CDC and HRSA each publishes a Federal Register notice and will be using a joint process to nominate nominees on a rolling basis; thus, applications received by CDC will be shared with HRSA for consideration. Therefore, potential candidates need only apply in response to one of the Federal Register notices. HHS notifies selected candidates of their appointment near the start of the term in December, or as soon as the HHS selection process is completed. Note that the need for different expertise varies from year to year and a candidate who is not selected in one year may be reconsidered in a subsequent year.

SGE nominees must be U.S. citizens and cannot be full-time employees of the U.S. Government. Candidates should submit the following items:

A letter of interest or personal statement from the nominee stating how their expertise would inform the work of CHACHSPT

A biographical sketch of the nominee (500 words or fewer)

Current curriculum vitae or resume, including complete contact information (telephone numbers, mailing address, email address)

At least one letter of recommendation from person(s) not employed by the U.S. Department of Health and Human Services. Candidates may submit letter(s) from current HHS employees if they wish, but at least one letter must be submitted by a person not employed by an HHS agency (e.g., CDC, National Institutes of Health, Food and Drug Administration).

Nominations may be submitted directly by the individual seeking nomination or by the person/organization recommending the candidate. CDC and HRSA will collect and retain nominations received for up to two years to create a pool of potential CHACHSPT nominees. When a vacancy occurs, CDC and HRSA will review nominations and may contact nominees at that time.

Appointments shall be made without discrimination on the basis of age, race, ethnicity, gender, sexual orientation, gender identity, HIV status, disability, and cultural, religious, or socioeconomic status.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-11815 Filed 6-1-22; 8:45 am]

BILLING CODE 4163-18-P